DEPARTMENT OF COMMERCE

International Trade Administration

[C-570-980]

Crystalline Silicon Photovoltaic Cells, Whether or Not Assembled Into Modules From the People's Republic of China: Partial Rescission of Countervailing Duty Administrative Review; 2019

AGENCY: Enforcement and Compliance, International Trade Administration, Department of Commerce.

SUMMARY: The Department of Commerce (Commerce) is partially rescinding the administrative review of the countervailing duty order on crystalline silicon photovoltaic cells (solar cells) from the People's Republic of China (China) for the period of review (POR) January 1, 2019, through December 31, 2019.

DATES: Applicable July 23, 2021.

FOR FURTHER INFORMATION CONTACT: Chien-Min Yang, AD/CVD Operations, Office VII, Enforcement and Compliance, International Trade Administration, U.S. Department of Commerce, 1401 Constitution Avenue NW, Washington, DC 20230; telephone: (202) 482-5484.

SUPPLEMENTARY INFORMATION:

Background

On December 2, 2020, Commerce published a notice of opportunity to request an administrative review of the countervailing duty order on solar cells from China.¹ Pursuant to requests from interested parties, on February 4, 2021, Commerce published the notice of initiation of an administrative review with respect to 83 companies, in accordance with section 751(a) of the Tariff Act of 1930, as amended (the Act).² Subsequent to the initiation of the administrative review, the petitioner ³ timely withdrew its request for an administrative review of 19 companies on May 5, 2021.⁴ Eight ⁵ of the 19 companies requested their own review of their entries and did not withdraw their requests for review.⁶ Thus, Commerce will only be rescinding this review with respect to the 11 companies for which a review request was received and subsequently withdrawn by the party(ies) requesting review.

¹ See Antidumping or Countervailing Duty Order, Finding, or Suspended Investigation; Opportunity to Request Administrative Review, 85 FR 77431 (December 2, 2020).

² See Initiation of Antidumping and Countervailing Duty Administrative Reviews, 86 FR 8166 (February 4, 2021) (Initiation Notice).

³ The petitioner is the American Alliance for Solar Manufacturing.

⁴ See Petitioner's Letter, “Crystalline Silicon Photovoltaic Cells, Whether or Not Assembled into Modules, from the People's Republic of China: Withdrawal of Request for Administrative Review,” dated May 5, 2021.

⁵ These eight companies are Canadian Solar International Limited (Canadian Solar), Jinko Solar Co., Ltd., Jinko Solar Import and Export Co., Ltd. (collectively Jinko Solar), Shanghai JA Solar Technology Co., Ltd., JA Solar Technology Yangzhou Co., Ltd. JA Solar Co., Ltd. (a.k.a. JingAo Solar Co., Ltd.) (collectively JA Solar), Risen Energy Co., Ltd. (Risen), and Yingli Energy (China) Co., Ltd.(Yingli).

⁶ See Canadian Solar's Letter, “Administrative Review of the Countervailing Duty Order on Crystalline Silicon Photovoltaic Cells, Whether or Not Assembled into Modules from the People's Republic of China: Request for Review,” dated December 29, 2020; see also Jinko Solar's Letter, “GDLSK Respondents Request for Administrative Review of the Countervailing Duty Order on Crystalline Silicon Photovoltaic Cells, Whether or Not Assembled into Modules (C-570-980)(POR: 01/01/19-12/31/19),” dated December 31, 2020; JA Solar's Letter, “Administrative Review of the Countervailing Duty Order on Crystalline Silicon Photovoltaic Cells, Whether or Not Assembled into Modules from the People's Republic of China: Request for Review,” dated December 29, 2020; Risen's Letter, “Crystalline Silicon Photovoltaic Cells from the People's Republic of China—Request for Administrative Review,” dated December 31, 2020; and Yingli's Letter, “Countervailing Duty Order on Crystalline Silicon Photovoltaic Cells, Whether or Not Assembled into Modules: Yingli's Request for Administrative Review,” dated December 22, 2020.

BYD (Shangluo) Industrial Co., Ltd. (BYD) also withdrew its self-requested review on May 5, 2021.⁷ However, the petitioner also requested a review of BYD and has not withdrawn the request; therefore, Commerce will not rescind the review with respect to BYD. There are active review requests on the record for the remaining 72 companies.

⁷ See BYD's Letter, “Crystalline Silicon Photovoltaic Cells, Whether or Not Assembled into Modules, from the People's Republic of China: Withdrawal of Request for Review—2019 Review Period,” dated May 5, 2021.

Partial Rescission of Administrative Review

Pursuant to 19 CFR 351.213(d)(1), Commerce will rescind an administrative review, in whole or in part, if the party that requested a review withdraws its request within 90 days of the date of publication of the notice of initiation. All requests for an administrative review were withdrawn by the established deadline of May 5, 2021, for the companies listed in the appendix. As a result, Commerce is rescinding this review with respect to these companies, in accordance with 19 CFR 351.213(d)(1). The administrative review will continue with respect to the remaining 72 companies listed in our Initiation Notice.⁸

⁸ See Initiation Notice, 86 FR at 8172-73.

Assessment

Commerce will instruct U.S. Customs and Border Protection (CBP) to assess countervailing duties on all appropriate entries. For the companies for which this review is rescinded, countervailing duties shall be assessed at rates equal to the cash deposit of estimated countervailing duties required at the time of entry, or withdrawal from warehouse for consumption, in accordance with 19 CFR 351.212(c)(l)(i). Commerce intends to issue assessment instructions to CBP no earlier than 35 days after the date of publication of this rescission notice in the Federal Register.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

Notification to Interested Parties

This notice is issued and published in accordance with sections 751(a)(1) and 777(i)(l) of the Act, and 19 CFR 351.213(d)(4).

Dated: July 19, 2021.
James Maeder,
Deputy Assistant Secretary for Antidumping and Countervailing Duty Operations.

Appendix

Companies Rescinded From Review

1. Anji DaSol Solar Energy Science & Technology Co., Ltd.

2. Jiawei Solarchina (Shenzhen) Co., Ltd.

3. Jiawei Solarchina Co., Ltd.

4. Ningbo Qixin Solar Electrical Appliance Co., Ltd.

5. Shanghai BYD Co., Ltd.

6. Shenzhen Sungold Solar Co., Ltd.

7. Shenzhen Topray Solar Co., Ltd.

8. Taizhou BD Trade Co., Ltd.

9. Wuxi Suntech Power Co., Ltd.

10. Luoyang Suntech Power Co., Ltd.

11. Wuxi Tianran Photovoltaic Co., Ltd.

[FR Doc. 2021-15742 Filed 7-22-21; 8:45 am]

BILLING CODE 3510-DS-P